DEPARTMENT OF THE INTERIOR

Bureau of Land Management

[ID-200-1120-PH]

Notice of Cancellation of February Resource Advisory Council Meeting in Twin Falls District, ID

AGENCY: Bureau of Land Management, Interior.

ACTION: Notice of Cancellation of February Resource Advisory Council Meeting in Twin Falls District, Idaho.

SUMMARY: This notice announces the cancellation of the Resource Advisory Council (RAC) meeting scheduled for Tuesday, February 7, 2006, in Twin Falls, Idaho.

SUPPLEMENTARY INFORMATION: The decision to cancel this previously scheduled meeting has been made due to efforts to fill a vacancy among the RAC members, as well as ongoing informational agenda items waiting for future decisional periods. Further scheduled meeting will still be held and published in upcoming notices of the Federal Register. A news release announcing the meeting cancellation will also be sent to Twin Falls area media outlets, thus complying with the steps indicated in the RAC charter to achieve such a cancellation.

FOR FURTHER INFORMATION CONTACT: Sky Buffat, Twin Falls District, Idaho 2536 Kimberly Road, Twin Falls, Idaho 83301, (208) 735-2068.

Dated: January 25, 2006.
Bill Baker,
Twin Falls District Associate Manager.

[FR Doc. E6-1185 Filed 1-30-06; 8:45 am]

BILLING CODE 4310-GG-P